NATIONAL FOUNDATION ON THE ARTS AND THE HUMANITIES

National Endowment for the Arts; Arts Advisory Panel

Pursuant to Section 10(a)(2) of the Federal Advisory Committee Act (Pub. L. 92-463), as amended, notice is hereby given that seven meetings of the Arts Advisory Panel to the National Council on the Arts will be held at the Nancy Hanks Center, 1100 Pennsylvania Avenue, NW., Washington, DC 20506 as follows (ending times are approximate):

Media Arts (application review): June 2-3, 2009 in Room 730. This meeting, from 9 a.m. to 6 p.m. on June 2nd, and from 9 a.m. to 3:30 p.m. on June 3rd, will be closed.

Folk & Traditional Arts (application review): June 3-5, 2009 in Room 716. A portion of this meeting, from 10:30 a.m. to 11:30 a.m. on June 5th, will be open to the public for policy discussion. The remainder of the meeting, from 9 a.m. to 5:30 p.m. on June 3rd and 4th and from 9 a.m. to 10:30 a.m. and 11:30 a.m. to 12 p.m. on June 5th, will be closed.

Media Arts (application review): June 4-5, 2009 in Room 730. This meeting, from 9 a.m. to 6 p.m. on June 4th and from 9 a.m. to 4 p.m. on June 5th, will be closed.

Design (application review): June 8-9, 2009 in Room 716. A portion of this meeting, from 1:30 p.m. to 2:30 p.m. on June 9th, will be open to the public for policy discussion. The remainder of the meeting, from 9 a.m. to 6 p.m. on June 8th and from 9 a.m. to 1:30 p.m. and 2:30 p.m. to 4:30 p.m. on June 9th, will be closed.

Local Arts Agencies (application review): June 10-11, 2009 in Room 730. This meeting, from 9 a.m. to 5:30 p.m. on June 10th and from 9 a.m. to 2:30 p.m. on June 11th, will be closed.

Dance (application review): June 15-19, 2009 in Room 716. This meeting, from 9 a.m. to 6 p.m. on June 15th—18th, and from 9 a.m. to 5 p.m. on June 19th, will be closed.

Presenting (application review): June 18-19, 2009 in Room 714. This meeting, from 9 a.m. to 5:30 p.m. on June 18th and from 9 a.m. to 4 p.m. on June 19th, will be closed.

The closed portions of meetings are for the purpose of Panel review, discussion, evaluation, and recommendations on financial assistance under the National Foundation on the Arts and the Humanities Act of 1965, as amended, including information given in confidence to the agency. In accordance with the determination of the Chairman of February 28, 2008, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC 20506, or call 202/682-5691.

Dated: May 14, 2009.
Kathy Plowitz-Worden,
Panel Coordinator, Panel Operations, National Endowment for the Arts.

[FR Doc. E9-11621 Filed 5-18-09; 8:45 am]

BILLING CODE 7537-01-P